FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center Web site at http://www.ffiec.gov/nic/.

Unless otherwise noted, comments regarding each of these applications must be received at the Reserve Bank indicated or the offices of the Board of Governors not later than October 30, 2006.

A. Federal Reserve Bank of Atlanta (Andre Anderson, Vice President) 1000 Peachtree Street, N.E., Atlanta, Georgia 30309:

1. FNBC Financial Corporation, Crestview, Florida; to become a bank holding company by acquiring 100 percent of the voting shares of First National Bank of Crestview, Crestview, Florida.

B. Federal Reserve Bank of Dallas (W. Arthur Tribble, Vice President) 2200 North Pearl Street, Dallas, Texas 75201-2272:

1. Kleberg & Company Bankers, Inc., Kingsville, Texas, and Kleberg Delaware, Inc., Dover, Delaware; to merge with Brazosport Corporation, Corpus Christi, Texas, and indirectly acquire Brazosport Corporation - Nevada, Inc., Carson City, Nevada, and First Commerce Bank, Corpus Christi, Texas. In addition, Kleberg & Company Bankers, Inc., Kingsville, Texas, and Kleberg Delaware, Inc., Dover, Delaware, have applied to engage in lending activities, pursuant to section 225.28(b)(1) of Regulation Y though the acquisition of an existing company, First Commerce Mortgage Corporation, Corpus Christi, Texas.

C. Federal Reserve Bank of San Francisco (Tracy Basinger, Director, Regional and Community Bank Group) 101 Market Street, San Francisco, California 94105-1579:

1. Green Bancorp, Inc.; to become a bank holding company by acquiring 100 percent of Redstone Bank, N.A., both of Houston, Texas.

2. Belvedere Texas Holdings, L.P., San Francisco, California; to become a bank holding company by acquiring up to 49 percent of Green Bancorp., Inc., and thereby indirectly acquire Redstone Bank, N.A., both of Houston, Texas.

3. Belvedere Capital Partners II LLC, and Belvedere Capital Fund II L.P., San Francisco, California; to acquire up to 49 percent of Green Bancorp., Inc., and thereby indirectly acquire Redstone Bank, N.A., both of Houston, Texas.

Board of Governors of the Federal Reserve System, September 29, 2006.
Jennifer J. Johnson,
Secretary of the Board.

[FR Doc. E6-16368 Filed 10-3-06; 8:45 am]

BILLING CODE 6210-01-S